NATIONAL SCIENCE FOUNDATION

Sunshine Act Meeting; National Science Board

The National Science Board's Committee on Honorary Awards, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: November 20, 2018 from 1:00 p.m. to 2:00 p.m. EST.

PLACE: This meeting will be held by teleconference at the National Science Foundation, 2415 Eisenhower Ave., Alexandria, VA 22314.

STATUS: Closed.

MATTERS TO BE CONSIDERED: (1) Subcommittee Chair's opening remarks; (2) Review and discuss candidates for the 2018 National Science Board Honorary Awards—the Vannevar Bush Award and the NSB Public Service Award; and subcommittee Chair's closing remarks.

CONTACT PERSON FOR MORE INFORMATION: Point of contact for this meeting is: Kim Silverman, 2415 Eisenhower Ave., Alexandria, VA 22314, ksilverm@nsf.gov, (703) 292-7000. Meeting information and updates may be found at http://www.nsf.gov/nsb/meetings/notices.jsp#sunshine. Please refer to the National Science Board website www.nsf.gov/nsb for general information.

Chris Blair,
Executive Assistant to the NSB Office.

[FR Doc. 2018-24923 Filed 11-9-18; 11:15 am]

BILLING CODE 7555-01-P